INTERNATIONAL TRADE COMMISSION

[Investigation No. 731-TA-828 (Final)]

Bulk Acetylsalicylic Acid (Aspirin) From China

Determination

On the basis of the record ¹ developed in the subject investigation, the United States International Trade Commission determines, pursuant to section 735(b) of the Tariff Act of 1930 (19 U.S.C. 1673d(b)) (the Act), that an industry in the United States is threatened with material injury by reason of imports from China of bulk acetylsalicylic acid (aspirin), provided for in subheadings 2918.22.10 and 3003.90.00 of the Harmonized Tariff Schedule of the United States, that have been found by the Department of Commerce to be sold in the United States at less than fair value (LTFV). The Commission further determines that it would not have found material injury but for the suspension of liquidation.

¹ The record is defined in sec. 207.2(f) of the Commission's Rules of Practice and Procedure (19 CFR § 207.2(f)).

Background

The Commission instituted this investigation effective May 28, 1999, following receipt of a petition filed with the Commission and the Department of Commerce by Rhodia, Inc., Cranbury, NJ. The final phase of the investigation was scheduled by the Commission following notification of a preliminary determination by the Department of Commerce that imports of bulk aspirin from China were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of February 4, 2000 (65 FR 5659). The hearing was held in Washington, DC, on May 18, 2000, and all persons who requested the opportunity were permitted to appear in person or by counsel.

The Commission transmitted its determination in this investigation to the Secretary of Commerce on June 30, 2000. The views of the Commission are contained in USITC Publication 3314 (June 2000), entitled Bulk Acetylsalicylic Acid (Aspirin) from China: Investigation No. 731-TA-828 (Final).

By order of the Commission.
Issued: June 29, 2000.
Donna R. Koehnke,
Secretary.

[FR Doc. 00-17080 Filed 7-5-00; 8:45 am]

BILLING CODE 7020-02-P